DEPARTMENT OF TRANSPORTATION

Federal Aviation Administration

14 CFR Part 39

[Docket No. FAA-2009-0055; Directorate Identifier 2008-NM-194-AD; Amendment 39-16125; AD 2009-25-06]

RIN 2120-AA64

Airworthiness Directives; Airbus Model A300 B2-1C, A300 B2-203, A300 B2K-3C, A300 B4-103, A300 B4-203, and A300 B4-2C Airplanes

AGENCY: Federal Aviation Administration (FAA), Department of Transportation (DOT).

ACTION: Final rule.

SUMMARY: We are superseding an existing airworthiness directive (AD) for the products listed above. This AD results from mandatory continuing airworthiness information (MCAI) originated by an aviation authority of another country to identify and correct an unsafe condition on an aviation product. The MCAI describes the unsafe condition as:

* * * [T]he FAA has published SFAR 88 (Special Federal Aviation Regulation 88). * * * Under this regulation, all holders of type certificates for passenger transport aeroplane * * * are required to conduct a design review against explosion risks.

One of the consequences of the Airbus design review is the modification of the fuel pump wiring to provide protection against chafing of the fuel pump cables. This condition, if not corrected, could generate short circuits leading to fuel pump failure and arcing. These could become a potential ignition source inside the fuel tank which, in combination with flammable fuel vapours (if present), could result in a fuel tank explosion and consequent loss of the aeroplane.

To address this unsafe condition, EASA [European Aviation Safety Agency] issued AD 2007-0066 that required this modification [of the fuel pump against short circuit] in accordance with Airbus Service Bulletin (SB) A300-24-0103 Revision 01. Airbus subsequently introduced an additional modification of the electrical wiring of the outer fuel pump and the landing lights of the left (LH) and the right (RH) side in Revision 02 of the SB A300-24-0103, leading to the issuance of EASA AD 2008-0188 which superseded EASA AD 2007-0066 and required the additional work.

More recently, Airbus introduced some additional protection to routes 1P and 2P harnesses in zone 571 and 671 of the aeroplane.

* * * * *

We are issuing this AD to require actions to correct the unsafe condition on these products.

DATES: This AD becomes effective January 8, 2010.

The Director of the Federal Register approved the incorporation by reference of a certain publication listed in this AD as of January 8, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a supplemental notice of proposed rulemaking (NPRM) to amend 14 CFR part 39 to include an AD that would apply to the specified products. That supplemental NPRM was published in the Federal Register on July 6, 2009 (74 FR 31896), and proposed to supersede AD 2007-18-02, Amendment 39-15182 (72 FR 49175, August 28, 2007). That supplemental NPRM proposed to correct an unsafe condition for the specified products. The MCAI states:

Further to the accident of a Boeing 747-131 (flight TWA800), the FAA has published SFAR 88 (Special Federal Aviation Regulation 88). Subsequently, the Joint Aviation Authorities (JAA) recommended the application of a similar regulation to the National Aviation Authorities (NAA) of its member countries. Under this regulation, all holders of type certificates for passenger transport aeroplane with either a passenger capacity of 30 or more, or a payload capacity of 3,402 kg (7,500 lbs) or more which have received their certification after 01 January 1958, are required to conduct a design review against explosion risks.

One of the consequences of the Airbus design review is the modification of the fuel pump wiring to provide protection against chafing of the fuel pump cables. This condition, if not corrected, could generate short circuits leading to fuel pump failure and arcing. These could become a potential ignition source inside the fuel tank which, in combination with flammable fuel vapours (if present), could result in a fuel tank explosion and consequent loss of the aeroplane.

To address this unsafe condition, EASA [European Aviation Safety Agency] issued AD 2007-0066 that required this modification in accordance with Airbus Service Bulletin (SB) A300-24-0103 Revision 01. Airbus subsequently introduced an additional modification of the electrical wiring of the outer fuel pump and the landing lights of the left (LH) and the right (RH) side in Revision 02 of the SB A300-24-0103, leading to the issuance of EASA AD 2008-0188 which superseded EASA AD 2007-0066 and required the additional work.

More recently, Airbus introduced some additional protection to routes 1P and 2P harnesses in zone 571 and 671 of the aeroplane.

For the reason described above, this new AD retains the requirements of EASA AD 2008-0188, which is superseded, and requires the additional work as specified in Revision 03 of Airbus SB A300-24-0103.

The additional modification will provide additional protection from chafing and will prevent intermittent operation of the fuel pump and landing lights, as well as failure of the power supply. The modification of the wiring of the outer fuel pump and the landing light on the LH side route 1P harness and RH side route 2P harness includes additional mechanical protection that includes procedures for installing new splicing on the wires, a new cable type, shrink sleeve installation on the new wiring, and an additional braided conduit sleeve (Halar), as applicable, for the fuel pumps and the landing lights. You may obtain further information by examining the MCAI in the AD docket.

Comments

We gave the public the opportunity to participate in developing this AD. We considered the comment received.

Request To Refer to Updated MCAI

Airbus requests that we refer to the latest EASA AD 2009-0157, dated July 17, 2009 (which was issued after the FAA supplemental NPRM was published), to require the additional work provided in Airbus Mandatory Service Bulletin A300-24-0103, Revision 03, dated February 18, 2009. The supplemental NPRM referred to Airbus Mandatory Service Bulletin A300-24-0103, Revision 03, dated February 18, 2009, as the appropriate source of service information for the required actions. Airbus further requests that we review the supplemental NPRM in light of the new EASA AD to qualify current requirements depending on the airplane configuration, as specified in the latest EASA AD.

We agree to refer to the latest EASA AD because it refers to the revised service information. However, we do not agree that it is necessary to revise the supplemental NPRM to qualify the requirements based on different configurations. Paragraph (g) of this AD requires that work be accomplished in accordance with Airbus Mandatory Service Bulletin A300-24-0103, Revision 03, dated February 18, 2009. The service bulletin specifies the different configurations and corresponding actions so there is no need to change the AD. Therefore, we have not changed the AD in regard to this issue.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 13 products of U.S. registry.

The actions that are required by AD 2007-18-02 and retained in this AD take about 72 work-hours per product, at an average labor rate of $80 per work hour. Required parts cost about $5,050 per product. Based on these figures, the estimated cost of the currently required actions is $10,810 per product.

We estimate that it will take about 42 work-hours per product to comply with the new basic requirements of this AD. The average labor rate is $80 per work-hour. Required parts will cost about $4,100 per product. Where the service information lists required parts costs that are covered under warranty, we have assumed that there will be no charge for these costs. As we do not control warranty coverage for affected parties, some parties may incur costs higher than estimated here. Based on these figures, we estimate the cost of this AD to the U.S. operators to be $96,980, or $7,460 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15182 (72 FR 49175, August 28, 2007) and adding the following new AD:

2009-25-06 Airbus: Amendment 39-16125. Docket No. FAA-2009-0055; Directorate Identifier 2008-NM-194-AD.

Effective Date

(a) This airworthiness directive (AD) becomes effective January 8, 2010.

Affected ADs

(b) This AD supersedes AD 2007-18-02, Amendment 39-15182.

Applicability

(c) This AD applies to Airbus Model A300 B2-1C, A300 B2-203, A300 B2K-3C, A300 B4-103, A300 B4-203, and A300 B4-2C airplanes, certificated in any category, as identified in Airbus Mandatory Service Bulletin A300-24-0103, Revision 03, dated February 18, 2009.

Subject

(d) Air Transport Association (ATA) of America Code 24: Electrical power.

Reason

(e) The mandatory continuing airworthiness information (MCAI) states:

Further to the accident of a Boeing 747-131 (flight TWA800), the FAA has published SFAR 88 (Special Federal Aviation Regulation 88). Subsequently, the Joint Aviation Authorities (JAA) recommended the application of a similar regulation to the National Aviation Authorities (NAA) of its member countries. Under this regulation, all holders of type certificates for passenger transport aeroplane with either a passenger capacity of 30 or more, or a payload capacity of 3 402 kg (7,500 lbs) or more which have received their certification after 01 January 1958, are required to conduct a design review against explosion risks.

One of the consequences of the Airbus design review is the modification of the fuel pump wiring to provide protection against chafing of the fuel pump cables. This condition, if not corrected, could generate short circuits leading to fuel pump failure and arcing. These could become a potential ignition source inside the fuel tank which, in combination with flammable fuel vapours (if present), could result in a fuel tank explosion and consequent loss of the aeroplane.

To address this unsafe condition, EASA [European Aviation Safety Agency] issued AD 2007-0066 that required this modification in accordance with Airbus Service Bulletin (SB) A300-24-0103 Revision 01. Airbus subsequently introduced an additional modification of the electrical wiring of the outer fuel pump and the landing lights of the left (LH) and the right (RH) side in Revision 02 of the SB A300-24-0103, leading to the issuance of EASA AD 2008-0188 which superseded EASA AD 2007-0066 and required the additional work.

More recently, Airbus introduced some additional protection to routes 1P and 2P harnesses in zone 571 and 671 of the aeroplane.

For the reason described above, this new AD retains the requirements of EASA AD 2008-0188, which is superseded, and requires the additional work as specified in Revision 03 of Airbus SB A300-24-0103.

The additional modification will provide additional protection from chafing and will prevent intermittent operation of the fuel pump and landing lights, as well as failure of the power supply. The modification of the wiring of the outer fuel pump and the landing light on the LH side route 1P harness and RH side route 2P harness includes additional mechanical protection that includes procedures for installing new splicing on the wires, a new cable type, shrink sleeve installation on the new wiring, and an additional braided conduit sleeve (Halar), as applicable, for the fuel pumps and the landing lights.

Restatement of Requirements of AD 2007-18-02, With Revised Service Information

(f) Within 31 months after October 2, 2007 (the effective date of AD 2007-18-02), unless already done, modify the inner and outer fuel pump wiring, route 1P and 2P harnesses in the LH (left-hand) wing and in the RH (right-hand) wing, in accordance with the Accomplishment Instructions of Airbus Service Bulletin A300-24-0103, Revision 01, dated January 11, 2007; or Airbus Mandatory Service Bulletin A300-24-0103, Revision 03, dated February 18, 2009. After the effective date of this AD, use only Airbus Mandatory Service Bulletin A300-24-0103, Revision 03, dated February 18, 2009. Actions done before October 2, 2007, in accordance with Airbus Service Bulletin A300-24-0103, dated March 15, 2006, for airplanes under configuration 1 as defined in Airbus Service Bulletin A300-24-0103, Revision 01, dated January 11, 2007; Revision 02, dated April 4, 2008; or Revision 03, dated February 18, 2009; are acceptable for compliance with the requirements of this paragraph.

New Requirements of This AD

Actions and Compliance

(g) Unless already done, within 12 months after the effective date of this AD, modify the wiring of the outer fuel pump and the landing light on the LH side route 1P harness and RH side route 2P harness in accordance with the Accomplishment Instructions of Airbus Mandatory Service Bulletin A300-24-0103, Revision 03, dated February 18, 2009.

FAA AD Differences

Note 1: This AD differs from the MCAI and/or service information as follows: No differences.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your appropriate principal inspector (PI) in the FAA Flight Standards District Office (FSDO), or lacking a PI, your local FSDO. AMOCs approved previously in accordance with AD 2007-18-02, are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(i) Refer to MCAI EASA Airworthiness Directive 2009-0157, dated July 17, 2009; Airbus Service Bulletin A300-24-0103, Revision 01, dated January 11, 2007; and Airbus Mandatory Service Bulletin A300-24-0103, Revision 03, dated February 18, 2009; for related information.

Material Incorporated by Reference

(j) You must use Airbus Mandatory Service Bulletin A300-24-0103, Revision 03, dated February 18, 2009, to do the actions required by this AD, unless the AD specifies otherwise.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on November 23, 2009.
Ali Bahrami,
Manager, Transport Airplane Directorate, Aircraft Certification Service.

[FR Doc. E9-28797 Filed 12-3-09; 8:45 am]

BILLING CODE 4910-13-P